DEPARTMENT OF DEFENSE

Department of the Army

DEPARTMENT OF AGRICULTURE

Forest Service

DEPARTMENT OF TRANSPORTATION

Federal Aviation Administration

Notice of Availability (NOA) of the Draft Environmental Impact Statement (DEIS) for the Transformation of the 2d Armored Cavalry Regiment (ACR) and Installation Mission Support, Joint Readiness Training Center (JRTC) and Fork Polk, LA, and Long-Term Military Training Use of Kisatchie National Forest Lands

AGENCY: Department of the Army, DOD; Forest Service, USDA; Federal Aviation Administration, DOT.

ACTION: Notice of availability.

SUMMARY: The Department of the Army, the USDA Forest Service, and the Federal Aviation Administration (FAA) announce the availability of the DEIS for the Transportation of the 2d Armored Cavalry Regiment and Installation Mission Support, Joint Readiness Training Center (JRTC) and Fort Polk, Louisiana, and Long-Term Military Training Use of Kisatchie National Forest Lands. The DEIS evaluates environmental impacts associated with the Army's proposal for implementation force transformation and mission capability enhancements at the installation and at England Industrial Airpark, along with long-term military training use of Kisatchie National Forest lands. The Army's proposed action involves fielding of new vehicles and equipment; construction and improvement of firing ranges, roads, stream crossings, and support facilities; land use agreements and leases; training and deployment of Army troops; and continued environmental stewardship. In addition, the DEIS considers a Forest Service proposal to thin approximately 21,500 acres of upland pine stands on the Vernon Unit, Calcasieu Ranger District of the Kisatchie National Forest to improve habitat conditions for the endangered red-cockaded woodpecker. The FAA proposes to approve amendment of the Alexandria International Airport Layout Plan as influenced by proposed Army projects and activities at England Industrial Airpark.

DATES: The comment period for the DEIS will end 45 days after publication of the NOA in the Federal Register by the U.S. Environmental Protection Agency.

ADDRESSES: Written comments or requests for copies of the DEIS may be submitted to: Dan Nance, Fort Polk Public Affairs Office, 7073 Radio Road, Fort Polk, LA 71459-5342; phone: (337) 531-7203; fax: (337) 531-6041; e-mail: eis@polk.army.mil.

FOR FURTHER INFORMATION CONTACT: Questions about the DEIS may be directed to: Stacy Basham-Wagner, Joint Agency Liaison, Attention: AFZX-PW-E (Basham-Wagner), 1799 23rd Street, Fort Polk, LA 71459; telephone (337) 531-7458, fax: (337) 531-2627.

SUPPLEMENTAL INFORMATION: In support of Army initiatives to meet evolving security requirements, the Army has designated the 2d ACR to transform as an element of the Interim Force to the 2d Cavalry Regiment, a medium-weight force that will be strategically responsive and more rapidly deployable by air. In addition to transformation of the 2d ACR, other Interim Force units stationed at other Army installations would participate in exercises at JRTC and Fort Polk on a rotational basis. To these ends, the Army proposes to implement force transformation and installation mission support activities at the JRTC and Fort Polk with respect to home station training (maneuver and gunnery exercises for Army units assigned to Fort Polk), rotational unit exercises, and facilities construction. The Army also proposes renewal of a Special Use Permit agreement with the Forest Service for continued use of Kisatchie National Forest lands to support military training. The areas of the Kisatchie National Forest proposed for Army use are known as the Intensive Use Area and Limited Use Area of the Vernon Unit, Calcasieu Ranger District and the Special Limited Use Area (also known as Horse's Head) of the Kisatchie Ranger District.

Proposals for installation mission support involve 20 construction projects that would occur on Army lands, national forest lands, and at England Industrial Airpark in Alexandria, Louisiana. The projects include 13 facilities in the Fort Polk cantonment area, digitization and expansion of the Multi-Purpose Range Complex on Fort Polk's main post, road construction/improvements and construction of a sniper range in the Intensive Use Area, construction of 20 stream crossings in the Limited Use Area, and 3 deployment support facilities at England Industrial Airpark. The JRTC and Fort Polk also propose to create additional helicopter training areas and to conduct limited types of non-live fire training on private lands. Over a 10-year period, the Forest Service proposes to thin approximately 21,500 acres of upland pine stands in there Intensive Use Area to enhance habitat conditions for the endangered red-cockaded woodpecker.

The Army is the lead agency in preparing the DEIS and the Forest Service and FAA are cooperating agencies. The decision to be made by the Army, based on the results of the EIS and upon consideration of all relevant factors (including mission, cost, technical factors, and environmental considerations), is how to provide for military training, readiness, and facilities requirements while ensuring the sustained use of resources entrusted to the stewardship of the Army. The decision to be made by the Forest Service is what military activities and land uses may occur on national forest lands and how to balance military and non-military uses while sustaining resources entrusted to Forest Service stewardship. The FAA intends to relay on analyses in this EIS to make decisions concerning the Alexandria International Airport Layout Plan as it may be affected by three Army projects proposed to occur at the airport and consequent movement of aircraft, materiel, and personnel through that facility.

The DEIS identifies eight alternatives, two of which are analyzed in detail: (1) The proposed action, summarized above, and (2) a no action alternative.

Comments on the DEIS received during the 45-day comment period will be considered in preparing the Final EIS. Public meetings to solicit comments on the DEIS will be held Baton Rouge, Leesville, and Alexandria, Louisiana. Notification of the times and locations for the public meetings will be published in local newspapers at least 15 days in advance.

Copies of the DEIS are available for review at the following libraries: Allen Parish Library (Oberlin Branch), 320 S. Sixth Street, Oberlin; Beauregard Parish Library, 205 South Washington Avenue, DeRidder, Calcasieu Public Library, 301 W. Claude Street, Lake Charles; East Baton Rouge Parish Library, 7711 Goodwood Boulevard, Baton Rouge; Lafayette Public Library, 301 W. Congress Street, Lafayette; Lincoln Parish Library, 509 West Alabama Avenue, Ruston; Natchitoches Parish Library, 431 Jefferson Street, Natchitoches; New Orleans Public Library (Orleans Parish), 219 Loyola Avenue, New Orleans; New Orleans Public Library (Algiers Point Branch), 725 Pelican Avenue, New Orleans; Ouachita Parish Library, 1800 Stubbs Avenue, Monroe; Rapides Parish Library, 411 Washington Street, Alexandria; Vernon Parish Library, 1401 Nolan Trace, Leesville; and Shreve Memorial Library (Caddo Parish), 424 Texas Street (71101), Shreveport, Louisiana. The DEIS, as well as additional information concerning the EIS process, may be reviewed at http://notes.tetratech-ffx.com/PolkEIS.nsf.

Dated: July 24, 2003.
Raymond J. Fatz,
Deputy Assistant Secretary of the Army, (Environment, Safety and Occupational Health), OASA(I&E).

[FR Doc. 03-19477 Filed 7-30-03; 8:45 am]

BILLING CODE 3710-08-M